INTERNATIONAL TRADE COMMISSION

[Investigation No. 337-TA-825]

Certain Silicon Microphone Packages and Products Containing the Same; Commission Determination Not To Review an Initial Determination Terminating Investigation Based on a Settlement Agreement; Termination of the Investigation

AGENCY: U.S. International Trade Commission.

ACTION: Notice.

SUMMARY: Notice is hereby given that the U.S. International Trade Commission has determined not to review an initial determination (“ID”) (Order No. 21) of the presiding administrative law judge (“ALJ”) terminating the investigation based on a settlement agreement.

FOR FURTHER INFORMATION CONTACT: Michael Liberman, Esq., Office of the General Counsel, U.S. International Trade Commission, 500 E Street SW., Washington, DC 20436, telephone (202) 205-3115. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation under section 337 of the Tariff Act of 1930, 19 U.S.C. 1337, on January 13, 2012, based on a complaint filed by Knowles Electronics LLC of Itasca, Illinois (“Knowles”). The complaint, as supplemented, alleges a violation of section 337 by reason of infringement of certain claims of U.S. Patent Nos. 7,439,616 and 8,018,049, 77 FR 2087 (Jan. 13, 2012). The respondents are Analog Devices Inc. of Norwood, Massachusetts (“ADI”); Amkor Technology, Inc. of Chandler, Arizona; and Avnet, Inc. of Phoenix, Arizona (collectively, “Respondents”). Id. Subsequently, some of the claims in both of the asserted patents were terminated from the investigation.

On March 12, 2013, complainant Knowles and Respondents filed a joint motion to terminate this investigation based on a settlement agreement between Knowles and ADI. On the same day, the ALJ issued an ID (Order No. 21) granting the motion. The ALJ found that termination of the investigation based on settlement did not impose any undue burdens on the public health and welfare, competitive conditions in the United States economy or United States consumers. No party petitioned for review of the ID, and the Commission has determined not to review it. The investigation has been terminated.

The authority for the Commission's determination is contained in section 337 of the Tariff Act of 1930, as amended (19 U.S.C. 1337), and in sections 210.42-.46 of the Commission's Rules of Practice and Procedure (19 CFR 210.42-.46).

Issued: April 8, 2013.
By order of the Commission.
Lisa R. Barton,
Acting Secretary to the Commission.

[FR Doc. 2013-08566 Filed 4-11-13; 8:45 am]

BILLING CODE 7020-02-P